DEPARTMENT OF ENERGY

Federal Energy Regulatory Commission

Combined Notice of Filings #1

Take notice that the Commission received the following electric corporate filings:

Docket Numbers: EC21-30-000.

Applicants: U.S. Energy Partners, LLC.

Description: Application for Authorization Under Section 203 of the Federal Power Act, et al. of U.S. Energy Partners LLC.

Filed Date: 11/30/20.

Accession Number: 20201130-5329.

Comments Due: 5 p.m. ET 12/21/20.

Take notice that the Commission received the following electric rate filings:

Docket Numbers: ER19-2462-002; ER11-4111-002; ER18-2264-005; ER19-289-005.

Applicants: Macquarie Energy LLC, Macquarie Energy Trading LLC, Cleco Cajun LLC, Hudson Ranch Power I LLC.

Description: Notice of Non-Material Change in Status of Macquarie Energy LLC, et al.

Filed Date: 11/30/20.

Accession Number: 20201130-5338.

Comments Due: 5 p.m. ET 12/21/20.

Docket Numbers: ER20-659-001.

Applicants: New York Independent System Operator, Inc.

Description: Compliance filing: Compliance filing to set effective date for Fast Start Pricing to be effective 12/15/2020.

Filed Date: 12/1/20.

Accession Number: 20201201-5245.

Comments Due: 5 p.m. ET 12/22/20.

Docket Numbers: ER20-1608-001.

Applicants: Mountain Breeze Wind, LLC.

Description: Notice of Non-Material Change in Status of Mountain Breeze Wind, LLC.

Filed Date: 11/30/20.

Accession Number: 20201130-5336.

Comments Due: 5 p.m. ET 12/21/20.

Docket Numbers: ER20-1806-002.

Applicants: Catalyst Old River Hydroelectric Limited Partnership.

Description: Notice of Non-Material Change in Status of Catalyst Old River Hydroelectric Limited Partnership.

Filed Date: 12/1/20.

Accession Number: 20201201-5080.

Comments Due: 5 p.m. ET 12/22/20.

Docket Numbers: ER20-2316-001.

Applicants: Hillcrest Solar I, LLC.

Description: Notice of Non-Material Change in Status of Hillcrest Solar I, LLC.

Filed Date: 11/30/20.

Accession Number: 20201130-5339.

Comments Due: 5 p.m. ET 12/21/20.

Docket Numbers: ER20-2696-000.

Applicants: VESI Pomona Energy Storage, Inc.

Description: Second Supplement to August 19, 2020 VESI Pomona Energy Storage Inc. tariff filing.

Filed Date: 11/30/20.

Accession Number: 20201130-5256.

Comments Due: 5 p.m. ET 12/21/20.

Docket Numbers: ER21-515-000.

Applicants: Public Service Company of New Mexico.

Description: § 205(d) Rate Filing: Pseudo Tie Agreement with TEP, Rate Schedule No. 175 to be effective 12/1/2020.

Filed Date: 11/30/20.

Accession Number: 20201130-5229.

Comments Due: 5 p.m. ET 12/21/20.

Docket Numbers: ER21-516-000.

Applicants: Avista Corporation.

Description: § 205(d) Rate Filing: Avista Corp RS T1111-1 Amended Grant County Agreement to be effective 12/1/2020.

Filed Date: 11/30/20.

Accession Number: 20201130-5230.

Comments Due: 5 p.m. ET 12/21/20.

Docket Numbers: ER21-517-000.

Applicants: Tri-State Generation and Transmission Association, Inc.

Description: § 205(d) Rate Filing: Tri-State's Proposed OATT Revisions for WEIS Market Implementation to be effective 2/1/2021.

Filed Date: 11/30/20.

Accession Number: 20201130-5240.

Comments Due: 5 p.m. ET 12/21/20.

Docket Numbers: ER21-518-000.

Applicants: Deseret Generation & Transmission Co-operative, Inc.

Description: § 205(d) Rate Filing: WEIS Implementation Filing to be effective 2/1/2021.

Filed Date: 11/30/20.

Accession Number: 20201130-5241.

Comments Due: 5 p.m. ET 12/21/20.

Docket Numbers: ER21-518-001.

Applicants: Deseret Generation & Transmission Co-operative, Inc.

Description: Tariff Amendment: Correction to WEIS Implementation Filing to be effective 2/1/2021.

Filed Date: 12/1/20.

Accession Number: 20201201-5007.

Comments Due: 5 p.m. ET 12/22/20.

Docket Numbers: ER21-519-000.

Applicants: Basin Electric Power Cooperative.

Description: § 205(d) Rate Filing: Basin Electric Proposed OATT Revisions for WEIS Market Implementation to be effective 2/1/2021.

Filed Date: 11/30/20.

Accession Number: 20201130-5242.

Comments Due: 5 p.m. ET 12/21/20.

Docket Numbers: ER21-520-000.

Applicants: PJM Interconnection, L.L.C.

Description: § 205(d) Rate Filing: Financial Transmission Rights Default Disposition Tariff and OA Revisions to be effective 2/1/2021.

Filed Date: 11/30/20.

Accession Number: 20201130-5286.

Comments Due: 5 p.m. ET 12/21/20.

Docket Numbers: ER21-521-000.

Applicants: Richmond Spider Solar, LLC.

Description: Baseline eTariff Filing: Reactive Power Compensation Filing to be effective 12/2/2020.

Filed Date: 12/1/20.

Accession Number: 20201201-5008.

Comments Due: 5 p.m. ET 12/22/20.

Docket Numbers: ER21-522-000.

Applicants: Southwest Power Pool, Inc.

Description: § 205(d) Rate Filing: 2198R28 Kansas Power Pool NITSA NOA to be effective 2/21/2021.

Filed Date: 12/1/20.

Accession Number: 20201201-5074.

Comments Due: 5 p.m. ET 12/22/20.

Docket Numbers: ER21-523-000.

Applicants: PJM Interconnection, L.L.C.

Description: § 205(d) Rate Filing: Amendment to WMPA, Service Agreement No. 4765; Queue No. AB1-123 to be effective 8/7/2017.

Filed Date: 12/1/20.

Accession Number: 20201201-5079.

Comments Due: 5 p.m. ET 12/22/20.

Docket Numbers: ER21-524-000.

Applicants: Arizona Public Service Company.

Description: § 205(d) Rate Filing: Rate Schedule Nos. 303 and 304—PNM Pseudo-Tie Agreements to be effective 2/1/2021.

Filed Date: 12/1/20.

Accession Number: 20201201-5101.

Comments Due: 5 p.m. ET 12/22/20.

Docket Numbers: ER21-525-000.

Applicants: Midcontinent Independent System Operator, Inc.

Description: § 205(d) Rate Filing: 2020-12-01_GIA Termination Loophole Filing to be effective 2/1/2021.

Filed Date: 12/1/20.

Accession Number: 20201201-5154.

Comments Due: 5 p.m. ET 12/22/20.

Docket Numbers: ER21-526-000.

Applicants: San Diego Gas & Electric Company.

Description: Third Annual Informational Filing [Cycle 3] of Fifth Transmission Owner Rate Formula rate mechanism of San Diego Gas & Electric Company.

Filed Date: 12/1/20.

Accession Number: 20201201-5184.

Comments Due: 5 p.m. ET 12/22/20.

Docket Numbers: ER21-527-000.

Applicants: Birchwood Power Partners, L.P.

Description: Tariff Cancellation: Cancellation reactive rates to be effective 3/1/2021.

Filed Date: 12/1/20.

Accession Number: 20201201-5276,

Comments Due: 5 p.m. ET 12/22/20.

Docket Numbers: ER21-528-000.

Applicants: Southwest Power Pool, Inc.

Description: § 205(d) Rate Filing: Tariff Clean-Up Filing Effective 20210101 to be effective 1/1/2021.

Filed Date: 12/1/20.

Accession Number: 20201201-5293.

Comments Due: 5 p.m. ET 12/22/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2020.
Kimberly D. Bose,
Secretary.

[FR Doc. 2020-26826 Filed 12-4-20; 8:45 am]

BILLING CODE 6717-01-P